NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that 23 meetings of the Humanities Panel will be held during April, 2013 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See SUPPLEMENTARY INFORMATION section for meeting room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. Date: April 02, 2013.

Time: 8:30 a.m. to 5:00 p.m.

Room: 315.

This meeting will discuss applications for the Scholarly Editions grant program on the subject of the Arts, submitted to the Division of Research Programs.

2. Date: April 03, 2013.

Time: 8:30 a.m. to 5:00 p.m.

Room: 315.

This meeting will discuss applications for the Collaborative Research grant program on the subjects of Philosophy, Religion and History of Science, submitted to the Division of Research Programs.

3. Date: April 04, 2013.

Time: 8:30 a.m. to 5:00 p.m.

Room: 315.

This meeting will discuss applications for the Collaborative Research grant program on the subject of Social Sciences, submitted to the Division of Research Programs.

4. Date: April 04, 2013.

Time: 8:30 a.m. to 5:00 p.m.

Room: 415.

This meeting will discuss applications for the Sustaining Cultural Heritage Collections grant program, submitted to the Division of Preservation and Access.

5. Date: April 09, 2013.

Time: 8:30 a.m. to 5:00 p.m.

Room: 415.

This meeting will discuss applications for the Sustaining Cultural Heritage Collections grant program, submitted to the Division of Preservation and Access.

6. Date: April 09, 2013.

Time: 8:30 a.m. to 5:00 p.m.

Room: 421.

This meeting will discuss applications for the America's Historical and Cultural Organizations Implementation grant program on the subject of Cultures and the Arts, submitted to the Division of Public Programs.

7. Date: April 11, 2013.

Time: 8:30 a.m. to 5:00 p.m.

Room: 421.

This meeting will discuss applications for the America's Media Makers Production grant program on the subject of 20th and 21st-century U.S. history, submitted to the Division of Public Programs.

8. Date: April 16, 2013.

Time: 8:30 a.m. to 5:00 p.m.

Room: 421.

This meeting will discuss applications for the America's Media Makers Production grant program on the subject of Digital Projects, submitted to the Division of Public Programs.

9. Date: April 16, 2013.

Time: 8:30 a.m. to 5:00 p.m.

Room: 415.

This meeting will discuss applications for the National Digital Newspaper Program grant program, submitted to the Division of Preservation and Access.

10. Date: April 16, 2013.

Time: 8:30 a.m. to 5:00 p.m.

Room: 402.

This meeting will discuss applications for the Digital Humanities Implementation Grants grant program on the subject of Education and Public Programs, submitted to the Office of Digital Humanities.

11. Date: April 16, 2013.

Time: 8:30 a.m. to 5:00 p.m.

Room: 315.

This meeting will discuss applications for the Landmarks of American History and Culture Workshops grant program, submitted to the Division of Education Programs.

12. Date: April 17, 2013.

Time: 8:30 a.m. to 5:00 p.m.

Room: 315.

This meeting will discuss applications for the Landmarks of American History and Culture Workshops grant program, submitted to the Division of Education Programs.

13. Date: April 18, 2013.

Time: 8:30 a.m. to 5:00 p.m.

Room: 315.

This meeting will discuss applications for the Landmarks of American History and Culture Workshops grant program, submitted to the Division of Education Programs.

14. Date: April 18, 2013.

Time: 8:30 a.m. to 5:00 p.m.

Room: 402.

This meeting will discuss applications for the Digital Humanities Implementation Grants grant program on the subject of Geospatial and Visualization Research, submitted to the Office of Digital Humanities.

15. Date: April 18, 2013.

Time: 8:30 a.m. to 5:00 p.m.

Room: 421.

This meeting will discuss applications for the America's Historical & Cultural Organizations Implementation grant program on the subjects of U.S. History, the West and Immigration, submitted to the Division of Public Programs.

16. Date: April 22, 2013.

Time: 8:30 a.m. to 5:00 p.m.

Room: 421.

This meeting will discuss applications for the America's Media Makers Production grant program on the subject of International Science and Ecology, submitted to the Division of Public Programs.

17. Date: April 22, 2013.

Time: 8:30 a.m. to 5:00 p.m.

Room: 402.

This meeting will discuss applications for the Digital Humanities Implementation Grants grant program on the subject of Scholarly Communications and Collections, submitted to the Office of Digital Humanities.

18. Date: April 23, 2013.

Time: 8:30 a.m. to 5:00 p.m.

Room: 420.

This meeting will discuss applications for the Challenge Grants Special Initiative for Two-Year Colleges grant program, submitted to the Office of Challenge Grants.

19. Date: April 24, 2013.

Time: 8:30 a.m. to 5:00 p.m.

Room: 402.

This meeting will discuss applications for the Digital Humanities Implementation Grants grant program on the subject of Computationally-Intensive Research, submitted to the Office of Digital Humanities.

20. Date: April 24, 2013.

Time: 8:30 a.m. to 5:00 p.m.

Room: 315.

This meeting will discuss applications for the Seminars and Institutes for College and University Teachers grant program, submitted to the Division of Education Programs.

21. Date: April 25, 2013.

Time: 8:30 a.m. to 5:00 p.m.

Room: 315.

This meeting will discuss applications for the Seminars and Institutes for School Teachers grant program, submitted to the Division of Education Programs.

22. Date: April 29, 2013.

Time: 8:30 a.m. to 5:00 p.m.

Room: 315.

This meeting will discuss applications for the Seminars and Institutes for School Teachers grant program, submitted to the Division of Education Programs.

23. Date: April 30, 2013.

Time: 8:30 a.m. to 5:00 p.m.

Room: 315.

This meeting will discuss applications for the Seminars and Institutes for School Teachers grant program, submitted to the Division of Education Programs.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: March 13, 2013.
Lisette Voyatzis,
Committee Management Officer.

[FR Doc. 2013-06190 Filed 3-15-13; 8:45 am]

BILLING CODE 7536-01-P